DEPARTMENT OF STATE

[Public Notice 6023]

Bureau of Political-Military Affairs; Statutory Debarment Under the Arms Export Control Act and the International Traffic in Arms Regulations

ACTION: Notice.

SUMMARY: Notice is hereby given that the Department of State has imposed statutory debarment pursuant to § 127.7(c) of the International Traffic in Arms Regulations (“ITAR”) (22 CFR Parts 120 to 130) on persons convicted of violating or conspiring to violate Section 38 of the Arms Export Control Act, as amended, (“AECA”) (22 U.S.C. 2778).

DATES: Effective Date: Date of conviction as specified for each person.

FOR FURTHER INFORMATION CONTACT: David Trimble, Director, Office of Defense Trade Controls Compliance, Bureau of Political-Military Affairs, Department of State (202) 663-2980.

SUPPLEMENTARY INFORMATION: Section 38(g)(4) of the AECA, 22 U.S.C. 2778(g)(4), prohibits the Department of State from issuing licenses or other approvals for the export of defense articles or defense services where the applicant, or any party to the export, has been convicted of violating certain statutes, including the AECA. In implementing this provision, section 127.7 of the ITAR provides for “statutory debarment” of any person who has been convicted of violating or conspiring to violate the AECA. Persons subject to statutory debarment are prohibited from participating directly or indirectly in the export of defense articles, including technical data, or in the furnishing of defense services for which a license or other approval is required.

Statutory debarment is based solely upon conviction in a criminal proceeding, conducted by a United States Court, and as such the administrative debarment procedures outlined in Part 128 of the ITAR are not applicable.

The period for debarment will be determined by the Assistant Secretary for Political-Military Affairs based on the underlying nature of the violations, but will generally be for three years from the date of conviction. At the end of the debarment period, export privileges may be reinstated only at the request of the debarred person followed by the necessary interagency consultations, after a thorough review of the circumstances surrounding the conviction, and a finding that appropriate steps have been taken to mitigate any law enforcement concerns, as required by section 38(g)(4) of the AECA. Unless export privileges are reinstated, however, the person remains debarred.

Department of State policy permits debarred persons to apply to the Director, Office of Defense Trade Controls Compliance, for reinstatement beginning one year after the date of the debarment. Any decision to grant reinstatement can be made only after the statutory requirements under section 38(g)(4) of the AECA have been satisfied.

Exceptions, also known as transaction exceptions, may be made to this debarment determination on a case-by-case basis at the discretion of the Assistant Secretary of State for Political-Military Affairs, after consulting with the appropriate U.S. agencies. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to section 38(g)(4) of the AECA and Section 127.7(c) of the ITAR, the following persons are statutorily debarred as of the date of their AECA conviction:

(1) L&M Manufacturing Corporation, May 22, 2007, U.S. District Court, District of Connecticut, Case #3:04CR125;

(2) Nesco NY, Inc., May 22, 2007, U.S. District Court, District of Connecticut, Case #3:04CV125;

(3) Alejandro Felix-Canez, January 13, 2006, U.S. District Court, District of Arizona, Case #CR05-00965-002-PHX-ROS;

(4) Yssouf Diabate, May 9, 2007, U.S. District Court, Southern District California, Case #06CR2161-LAB;

(5) Ronald W. Wiseman, November 1, 2006, U.S. District Court, District of Columbia, Case #05-0152-01(JR);

(6) Gustavo Gonzalez, Jr., November 3, 2006, U.S. District Court, Southern District of Texas, Case #1:06CR00529-001;

(7) Carlos Ivan Deblas, February 6, 2007, U.S. District Court, Southern District of Texas, Case #1:06CR00663-001;

(8) Francisco Jimenez Briceno, February 6, 2007, District Court, Southern District of Texas, Case #1:06CR00663-002;

(9) Balbina Morales-Oscoy, February 21, 2007, District Court, Southern District of Texas, Case #7:06CR00776-001;

(10) Pedro Martinez-Carrillo, June 21, 2007, District Court, Southern District of Texas, Case #1:07CR00039-001;

(11) Lorenzo Sanchez-Castruita, January 19, 2007, District Court, Western District of Texas, Case #P-06-CR-213 (01) RAJ;

(12) Ovet Chavira, March 5, 2007, District Court, Western District of Texas, Case #4:06-CR-00220-001 RAJ;

(13) Miguel Loya, May 29, 2007, District Court, Western District of Texas, Case #4:06-CR-00279-001; and

(14) Jeffrey Roll, June 8, 2007, District Court, Southern District of Indiana, Case #1:07CR00014-001.

As noted above, at the end of the three-year period following the date of conviction, the above named persons remain debarred unless export privileges are reinstated.

Debarred persons are generally ineligible to participate in activity regulated under the ITAR (see e.g., sections 120.1(c) and (d), and 127.11(a)). Also, under section 127.1(c) of the ITAR, any person who has knowledge that another person is subject to debarment or is otherwise ineligible may not, without disclosure to and written approval from the Directorate of Defense Trade Controls, participate, directly or indirectly, in any export in which such ineligible person may benefit therefrom, or have a direct or indirect interest therein.

This notice is provided for purposes of making the public aware that the persons listed above are prohibited from participating directly or indirectly in activities regulated by the ITAR, including any brokering activities, and in any export from or temporary import into the United States of defense articles, related technical data, or defense services in all situations covered by the ITAR. Specific case information may be obtained from the Office of the Clerk for the U.S. District Courts mentioned above, and by citing the court case number provided.

Dated: October 29, 2007.
Stephen D. Mull,
Acting Assistant Secretary for Political-Military Affairs, Department of State.

[FR Doc. E7-24068 Filed 12-11-07; 8:45 am]

BILLING CODE 4710-25-P